DEPARTMENT OF TRANSPORTATION

Federal Aviation Administration

14 CFR Part 39

[Docket No. FAA-2023-2136; Project Identifier MCAI-2023-00759-T; Amendment 39-22659; AD 2024-01-08]

RIN 2120-AA64

Airworthiness Directives; Airbus SAS Airplanes

AGENCY: Federal Aviation Administration (FAA), DOT.

ACTION: Final rule.

SUMMARY: The FAA is superseding Airworthiness Directive (AD) 2019-16-11, which applied to certain Airbus SAS Model A300 F4-605R and FR-622R airplanes. AD 2019-16-11 required repetitive high frequency eddy current (HFEC) inspections of the aft lower deck cargo door (LDCD) frame forks; a one-time check of the LDCD clearances; a one-time detailed visual inspection of hooks, eccentric bushes, and x-stops; and corrective actions if necessary. This AD was prompted by a determination that the threshold for the (repetitive) HFEC inspection needs to be corrected, and the LDCD frame forks modified. This AD continues to require the actions in AD 2019-16-11, requires correcting the HFEC inspection threshold and modifying the LDCD frame forks, and prohibits the installation of affected LDCDs under certain conditions; as specified in a European Union Aviation Safety Agency (EASA) AD, which is incorporated by reference. The FAA is issuing this AD to address the unsafe condition on these products.

DATES: This AD is effective March 21, 2024.

The Director of the Federal Register approved the incorporation by reference of a certain publication listed in this AD as of March 21, 2024.

ADDRESSES:

AD Docket: You may examine the AD docket at regulations.gov under Docket No. FAA-2023-2136; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this final rule, contact EASA, Konrad-Adenauer-Ufer 3, 50668 Cologne, Germany; telephone +49 221 8999 000; email ADs@easa.europa.eu; website easa.europa.eu. You may find this material on the EASA website ad.easa.europa.eu.

• You may view this material at the FAA, Airworthiness Products Section, Operational Safety Branch, 2200 South 216th Street, Des Moines, WA. For information on the availability of this material at the FAA, call 206-231-3195. It is also available in the AD docket at regulations.gov under Docket No. FAA-2023-2136.

FOR FURTHER INFORMATION CONTACT: Dan Rodina, Aviation Safety Engineer, FAA, 1600 Stewart Avenue, Suite 410, Westbury, NY 11590; telephone 206-231-3225; email dan.rodina@faa.gov.

SUPPLEMENTARY INFORMATION:

Background

The FAA issued a notice of proposed rulemaking (NPRM) to amend 14 CFR part 39 to supersede AD 2019-16-11, Amendment 39-19714 (84 FR 45061, August 28, 2019) (AD 2019-16-11). AD 2019-16-11 applied to certain Airbus SAS Model A300 F4-605R and F4-622R airplanes. AD 2019-16-11 required repetitive HFEC inspections of the aft LDCD frame forks; a one-time check of the LDCD clearances; a one-time detailed visual inspection of hooks, eccentric bushes, and x-stops; and corrective actions if necessary. The FAA issued AD 2019-16-11 to address cracked or ruptured aft LDCD frames, which could allow loads to be transferred to the remaining structural elements. This condition could lead to the rupture of one or more vertical aft LDCD frames, which could result in reduced structural integrity of the aft LDCD.

The NPRM published in the Federal Register on October 31, 2023 (88 FR 74369). The NPRM was prompted by AD 2023-0117, dated June 13, 2023, issued by EASA, which is the Technical Agent for the Member States of the European Union (EASA AD 2023-0117) (also referred to as the MCAI). The MCAI states that based on more detailed stress analyses, it has been determined that the threshold for the (repetitive) HFEC inspection could be extended from 12,500 flight hours to 26,455 flight hours for those affected parts installed on an LDCD that has been modified or replaced. It was also determined that an incorrect HFEC inspection threshold had been defined for the affected parts that have not been modified or replaced. Additional widespread fatigue damage analysis determined that all frame forks of affected LDCDs are susceptible to crack development, which compromises the structural integrity of the LDCD and therefore of the airplane.

In the NPRM, the FAA proposed to continue to require the actions in AD 2019-16-11 and require correcting the HFEC inspection threshold, modifying the LDCD frame forks, and prohibit the installation of affected LDCDs under certain conditions, as specified in EASA AD 2023-0117. The FAA is issuing this AD to address the unsafe condition on these products.

You may examine the MCAI in the AD docket at regulations.gov under Docket No. FAA-2023-2136.

Discussion of Final Airworthiness Directive

Comments

The FAA received comments from FedEx Express and the Air Line Pilots Association, International (ALPA), who supported the NPRM without change.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2023-0117 specifies procedures for repetitive HFEC inspections for cracks of the aft LDCD frame forks; a one-time check of the LDCD clearances; a one-time detailed visual inspection for signs of wear on the hooks, eccentric bushes, and x-stops; and corrective actions if necessary. In addition, EASA AD 2023-0117 specifies procedures for modifying frame forks that have not been reinforced. EASA AD 2023-0117 also prohibits the installation of affected LDCDs under certain conditions.

This material is reasonably available because the interested parties have access to it through their normal course of business or by the means identified in the ADDRESSES section.

Costs of Compliance

The FAA estimates that this AD affects 58 airplanes of U.S. registry. The FAA estimates the following costs to comply with this AD:

Estimated Costs for Required Actions
Action | Labor cost | Parts cost | Cost per product | Cost on U.S. operators
Retained actions from AD 2019-16-11 | 15 work-hours × $85 per hour = $1,275 | $0 | $1,275 | $73,950.
New actions | Up to 38 work-hours × $85 per hour = $3,230 | 850 | Up to $4,080 | Up to $236,640.

The FAA has received no definitive data on which to base the cost estimates for certain on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2019-16-11, Amendment 39-19714 (84 FR 45061, August 28, 2019); and

b. Adding the following new Airworthiness Directive:

2024-01-08 Airbus SAS: Amendment 39-22659; Docket No. FAA-2023-2136; Project Identifier MCAI-2023-00759-T.

(a) Effective Date

This airworthiness directive (AD) is effective March 21, 2024.

(b) Affected ADs

This AD replaces AD 2019-16-11, Amendment 39-19714 (84 FR 45061, August 28, 2019) (AD 2019-16-11).

(c) Applicability

This AD applies to Airbus SAS Model A300 F4-605R and F4-622R airplanes, certificated in any category, as identified in European Union Aviation Safety Agency (EASA) AD 2023-0117, dated June 13, 2023 (EASA AD 2023-0117).

(d) Subject

Air Transport Association (ATA) of America Code: 52, Doors.

(e) Unsafe Condition

This AD was prompted by a report of two adjacent frame forks that were found cracked on the aft lower deck cargo door (LDCD) of two airplanes during scheduled maintenance, and a determination that certain compliance times need to be revised. The FAA is also issuing this AD to address the susceptibility of the frame forks of affected LDCDs to develop cracks, which could lead to additional rupture of one or more LDCD frame forks, compromising the structural integrity of the LDCD and therefore of the airplane.

(f) Compliance

Comply with this AD within the compliance times specified, unless already done.

(g) Requirements

Except as specified in paragraph (h) of this AD: Comply with all required actions and compliance times specified in, and in accordance with, EASA AD 2023-0117.

(h) Exceptions to EASA AD 2023-0117

(1) Where EASA AD 2023-0117 refers to its effective date, this AD requires using the effective date of this AD.

(2) Where Table 2 of EASA AD 2023-0117 refers to the effective date of EASA AD 2015-0152R1, dated May 23, 2017, this AD requires using November 5, 2018 (the effective date of AD 2018-20-06, Amendment 39-19440 (83 FR 49265, October 1, 2018)).

(3) Where Table 2 of EASA AD 2023-0117 refers to the effective date of EASA AD 2015-0152, dated July 24, 2015, this AD requires using January 26, 2017 (the effective date of AD 2016-25-03, Amendment 39-18729 (81 FR 93801, December 22, 2016)).

(4) Where paragraph (6) of EASA AD 2023-0117 uses the phrase “before next flight, contact Airbus for approved corrective action instructions, and within the compliance time specified therein, accomplish those instructions accordingly,” this AD requires replacing those words with “repair cracking before further flight using a method approved by the Manager, International Validation Branch, FAA; or EASA; or Airbus SAS's EASA Design Organization Approval (DOA). If approved by the DOA, the approval must include the DOA-authorized signature.”

(5) This AD does not adopt the “Remarks” section of EASA AD 2023-0117.

(i) No Reporting Requirement

Although the service information referenced in EASA AD 2023-0117 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraphs (h)(4) and (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Dan Rodina, Aviation Safety Engineer, FAA, 1600 Stewart Avenue, Suite 410, Westbury, NY 11590; telephone 206-231-3225; email dan.rodina@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0117, dated June 13, 2023.

(ii) [Reserved]

(3) For EASA AD 2023-0117, contact EASA, Konrad-Adenauer-Ufer 3, 50668 Cologne, Germany; telephone +49 221 8999 000; email ADs@easa.europa.eu; website easa.europa.eu. You may find this EASA AD on the EASA website ad.easa.europa.eu.

(4) You may view this service information at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations, or email fr.inspection@nara.gov.

Issued on January 9, 2024.
Caitlin Locke,
Director, Compliance & Airworthiness Division, Aircraft Certification Service.

[FR Doc. 2024-03080 Filed 2-14-24; 8:45 am]

BILLING CODE 4910-13-P